DEPARTMENT OF THE INTERIOR

Bureau of Land Management

[LLNVC02000.L71220000.FR0000; NVN094919; 13-08807; MO # 4500123319]

Notice of Realty Action: Recreation and Public Purposes Act Classification: Nevada

AGENCY: Bureau of Land Management, Interior.

ACTION: Notice of realty action.

SUMMARY: The Bureau of Land Management (BLM) has examined certain public lands in Lyon County, and has found them suitable for classification for lease and conveyance to the Nevada Department of Transportation (NDOT) under the provisions of the Recreation & Public Purpose (R&PP) Act, as amended; Sec. 7 of the Taylor Grazing Act; and Executive Order No. 6910. The NDOT proposes to use the land as a highway maintenance station.

DATES: Submit written comments regarding this proposed classification on or before August 5, 2019. Comments may be mailed or hand delivered to the BLM office address below. Comments may be emailed or faxed to the contacts below. The BLM will not consider comments received via telephone calls.

ADDRESSES: Mail written comments to Environmental Coordinator, Carson City District Office, 5665 Morgan Mill Road, Carson City, Nevada 89701, or submit via email at blm_nv_ccdowebmail@blm.gov, or fax to 775-885-6147. The BLM has made available detailed information including, but not limited to, a proposed development and management plan and documentation relating to compliance with applicable environmental and cultural resource laws, for review during business hours, 7:30 a.m. to 4:30 p.m. Pacific Time, Monday through Friday, except during Federal holidays, at the BLM Carson City District Office at 5665 Morgan Mill Road, Carson City, Nevada 89701.

FOR FURTHER INFORMATION CONTACT: Terah Malsam, Realty Specialist, at 775-885-6153. Persons who use a telecommunications device for the deaf may call the Federal Relay Service (FRS) at 1-800-877-8339 to leave a message or question for the above individual. The FRS is available 24 hours a day, 7 days a week. You will receive a reply during normal business hours.

SUPPLEMENTARY INFORMATION: The lands consist of approximately 20 acres, must conform to the official plat of survey, and are legally described below.

The NDOT has not applied for more than the 6,400-acre limitation for recreation uses in a year (or 640 acres if a nonprofit corporation or association), nor more than 640 acres for each of the programs involving public resources other than recreation.

The NDOT has submitted a statement in compliance with the regulations at 43 CFR 2741.4(b). The NDOT proposes to use the land as a highway maintenance station. The maintenance station will support constructing, reconstructing, improving, operating, managing, and maintaining highways and ancillary facilities. NDOT may use the maintenance station for staging, as needed, for highway construction projects in the vicinity.

The lands examined and identified as suitable for lease and conveyance under the R&PP Act are legally described as:

Mount Diablo Meridian, Nevada

T. 18 N., R. 24 E.,

Sec. 24, NE¼NW¼SW¼ and NW¼NE¼SW¼.

The areas described aggregate 20 acres.

The lands are not needed for any Federal purposes. The BLM Carson City Field Office Consolidated Resource Management Plan, dated May 2001, addresses lease and conveyance of the lands for recreational or public purposes, and lease and conveyance of the subject lands would be in the national interest.

The BLM will provide a copy of this notice to all interested parties once the BLM publishes the Notice in the Federal Register. The BLM will publish a copy of the Federal Register Notice with information about this proposed realty action in a newspaper of local circulation once a week for three consecutive weeks. The regulations at 43 CFR Subpart 2741 addressing requirements and procedures for conveyances under the R&PP Act do not require a public meeting.

Upon publication of this notice in the Federal Register, this notice will segregate the lands from all other forms of appropriation under the public land laws, including locations under the mining laws, except for lease and conveyance under the R&PP Act and leasing under the mineral leasing laws.

The lease and conveyance of the land will be subject to the following terms, conditions, and reservations:

1. A right-of-way thereon for ditches and canals constructed by the authority of the United States Act of August 30, 1890 (26 Stat. 391; 43 U.S.C. 945).

2. Provisions of the R&PP Act and to all applicable regulations of the Secretary of the Interior.

3. All mineral deposits in the land so patented, and the right to prospect for, mine, and remove such deposits from the same under applicable law and regulations as established, by the Secretary of the Interior, are reserved to the United States, together with all necessary access and exit rights.

4. Valid existing rights.

5. An appropriate indemnification clause protecting the United States from claims arising out of the lessee's/patentee's use, occupancy, or occupations on the leased/patented lands.

6. Any other reservations that the authorized officer determines appropriate to ensure public access and proper management of Federal lands and interests therein.

The NDOT has requested that the BLM allow the NDOT to relinquish the southern 20 acres of a BLM mineral material permit (NVCC 021630) that is currently sited over the proposed lease and conveyance lands.

Classification Comments: Interested persons may submit comments involving the suitability of the land for development of a highway maintenance station. Comments on the classification are restricted to whether the land is physically suited for the proposal, whether the use will maximize the future use or uses of the land, whether the use is consistent with local planning and zoning, or if the use is consistent with state and Federal programs.

Application Comments: Interested persons may submit comments regarding the specific use proposed in the application and plan of development and management, whether the BLM followed proper administrative procedures in reaching the decision, or any other factor not directly related to the suitability of the lands for a highway maintenance station.

Before including your address, phone number, email address, or other personally identifiable information in any comment, be aware that your entire comment including your personally identifiable information may be made publicly available at any time. While you can ask us in your comment to withhold your personally identifiable information from public review, we cannot guarantee that we will be able to do so.

Any adverse comments will be reviewed by the BLM State Director or other authorized official of the Department of the Interior, who may sustain, vacate, or modify this realty action. In the absence of any adverse comments, the classification will become effective on August 19, 2019. The BLM will not offer the lands for lease or conveyance until after the classification becomes effective.

Authority: 43 CFR 2741.5.

Victoria Wilkins,
Acting Field Manager, Sierra Front Field Office.

[FR Doc. 2019-13092 Filed 6-19-19; 8:45 am]

BILLING CODE 4310-HC-P